DEPARTMENT OF TRANSPORTATION

Coast Guard

33 CFR Part 117

[CGD07-00-022]

RIN 2115-AE47

Drawbridge Operation Regulations; Wappoo Creek (ICW), Charleston, SC

AGENCY: Coast Guard, DOT.

ACTION: Notice of temporary deviation from regulations.

SUMMARY: Notice is hereby given that the Commander, Seventh Coast Guard District has approved a temporary deviation from the regulations governing the operation of the Folly Road (SC Route 171) drawbridge across the Atlantic Intracoastal Waterway, mile 470.8, Charleston, Charleston County, South Carolina. This deviation allows the drawbridge owner or operator to open only a single leaf of the drawbridge, and requires one hour advance notification to accommodate a request for a full double-leaf opening. This temporary schedule allows the bridge owner to safely conduct necessary repairs to the drawbridge.

DATES: This deviation is effective from March 28, 2000 to May 16, 2000.

FOR FURTHER INFORMATION CONTACT: Mr. Brodie Rich, Project Manager, Seventh Coast Guard District, Bridge Section at (305) 536-5117.

SUPPLEMENTARY INFORMATION: The Folly Road drawbridge across the Atlantic Intracoastal Waterway at Charleston, has a vertical clearance of 33 feet above mean high water (MHW) and 38 feet above mean low water (MLW) measured at the fenders in the closed position. On February 27, 2000, Coastal Marine Construction, Incorporated, the contractor representing the drawbridge owner, requested a deviation from the current operating regulation in 33 CFR 117.5 which requires drawbridge to open promptly and fully when a request to open is given. This temporary deviation was requested to allow necessary repairs to the drawbridge in a critical time sensitive manner. The contractor has advised us that the drawbridge is likely to suffer failure of operation, which would increase the intensity and length of time in order to complete the necessary repairs.

The District Commander has granted a temporary deviation from the operating requirements listed in 33 CFR 117.5 for the purpose of conducting repairs to the drawbridge. Under this deviation, the Folly Road (SC Route 171) Drawbridge need only open one leaf of the drawbridge unless one hour advance notification is provided by the vessel operator to the drawbridge tender which would allow a full double-leaf opening. The deviation is effective for a period of 50 days beginning on March 28, 2000 and ending on May 16, 2000.

Dated: March 21, 2000.
T.W. Allen,
Rear Admiral, U.S. Coast Guard Commander, Seventh Coast Guard District.

[FR Doc. 00-9220 Filed 4-12-00; 8:45 am]

BILLING CODE 4910-15-P